DEPARTMENT OF ENERGY

Federal Energy Regulatory Commission

[Project Nos. 13391-001,13392-001, 13500-001, 13424-001, 13809-001, 13649-001, 13651-001]

Hydro Green Energy, LLC; Notice of Intent To File License Applications and Approving Use of the Traditional Licensing Process

a. Type of Filing: Notice of Intent To File License Applications and Approving Requests to Use the Traditional Licensing Process.

b. Project Nos.: 13391-001, 13392-001, 13500-001, 13424-001, 13809-001, 13649-001, and 13651-001.

c. Date Filed: August 23, 2011.

d. Submitted By: Hydro Green Energy, LLC (Hydro Green).

e. Name of Projects: Lock and Dam 5a, Project 13391-001; Lock and Dam 9, Project 13392-001; Lock and Dam 12, Project 13500-001; Lock and Dam 13, Project 13424-001; Lock and Dam 14, Project 13809-001; Lock and Dam 20, Project 13649-001; and Lock and Dam 22, Project 13651-001.

f. Location: At existing locks and dams owned by the U.S. Army Corps of Engineers on the Upper Mississippi River in Minnesota, Wisconsin, Illinois, Iowa, and Missouri (see table below for specific project locations).

Project No. | Project name | Counties/States | City/Town
P-13391 | Lock and Dam 5a | Buffalo Co.,WI and Winona Co., MN | Near town of Fountain City, WI.
P-13392 | Lock and Dam 9 | Crawford Co., WI and Allamakee Co., IA | Near city of Lynxville, WI.
P-13500 | Lock and Dam 12 | Jackson Co., WI and Jo Daviess Co., IL | Near city of Bellevue, IA.
P-13424 | Lock and Dam 13 | Whiteside Co., IL and Clinton Co., IA | Near city of Fulton, IL.
P-13809 | Lock and Dam 14 | Rock Island Co., IL and Scott Co., IA | Near city of Hampton, IL.
P-13649 | Lock and Dam 20 | Adams Co., IL and Lewis Co., MO | Near the towns of Canto, MO and Meyer, IL.
P-13651 | Lock and Dam 22 | Pike Co., IL and Ralls Co., MO | Near the town of Saverton, MO.

g. Filed Pursuant to: Federal Power Act, 16 U.S.C. 808(b)(1) and 18 CFR 5.5 of the Commission's regulations.

h. Potential Applicant Contact: Mark R. Stover, Designated Representative, Vice President of Corporate Affairs, Hydro Green Energy, LLC., 900 Oakmont Lane, Suite 310, Westmont, IL 60559; tel. (877) 556-6566 ext. 711 or email at mark@hgenergy.com.

i. FERC Contact: Lee Emery at (202) 502-8379; or email at lee.emery@ferc.gov.

j. Hydro Green filed its request to use the Traditional Licensing Process on August 23, 2011. Hydro Green provided public notice of its requests on August 17, 18, 20, and 22, 2011. In a letter dated October 21, 2011, the Director of the Division of Hydropower Licensing approved Hydro Green's request to use the Traditional Licensing Process for all seven projects.

k. With this notice, we are initiating informal consultation with: (a) The U.S. Fish and Wildlife Service and/or NOAA Fisheries under section 7 of the Endangered Species Act and the joint agency regulations thereunder at 50 CFR, part 402; (b) NOAA Fisheries under section 305(b) of the Magnuson-Stevens Fishery Conservation and Management Act and implementing regulations at 50 CFR 600.920; and (c) the Minnesota, Wisconsin, Illinois, Missouri, and Iowa State Historic Preservation Officer, as required by section 106, National Historical Preservation Act, and the implementing regulations of the Advisory Council on Historic Preservation at 36 CFR 800.2.

l. With this notice, we are designating Hydro Green as the Commission's non-federal representative for carrying out informal consultation, pursuant to section 7 of the Endangered Species Act, section 305 of the Magnuson-Stevens Fishery Conservation and Management Act, and section 106 of the National Historic Preservation Act.

m. Hydro Green filed Pre-Application Documents (PAD) for each proposed project, including a proposed process plan and schedule with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-(866) 208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: October 21, 2011.
Kimberly D. Bose,
Secretary.

[FR Doc. 2011-27835 Filed 10-26-11; 8:45 am]

BILLING CODE 6717-01-P